DEPARTMENT OF COMMERCE

Foreign-Trade Zones Board

[S-169-2016]

Foreign-Trade Zone 24—Pittston, Pennsylvania; Application for Subzone; Brake Parts Inc.; Hazleton, Pennsylvania

An application has been submitted to the Foreign-Trade Zones Board (the Board) by the Eastern Distribution Center, Inc., grantee of FTZ 24, requesting subzone status for the facility of Brake Parts Inc., located in Hazleton, Pennsylvania. The application was submitted pursuant to the provisions of the Foreign-Trade Zones Act, as amended (19 U.S.C. 81a-81u), and the regulations of the Board (15 CFR part 400). It was formally docketed on December 1, 2016.

The proposed subzone (28 acres) is located at 62 Green Mountain Road, Hazleton, Schuylkill County. A notification of proposed production activity has been submitted and will be published separately for public comment and processed under 15 CFR 400.37. The proposed subzone would be subject to the existing activation limit of FTZ 24.

In accordance with the Board's regulations, Elizabeth Whiteman of the FTZ Staff is designated examiner to review the application and make recommendations to the Executive Secretary.

Public comment is invited from interested parties. Submissions shall be addressed to the Board's Executive Secretary at the address below. The closing period for their receipt is January 17, 2017. Rebuttal comments in response to material submitted during the foregoing period may be submitted during the subsequent 15-day period to January 31, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: December 1, 2016.
Andrew McGilvray,
Executive Secretary.

[FR Doc. 2016-29352 Filed 12-6-16; 8:45 am]

BILLING CODE 3510-DS-P